TENNESSEE VALLEY AUTHORITY

Notice of Consideration of Standards

SUMMARY: The Tennessee Valley Authority (TVA) is considering adopting for itself and the distributors of TVA power certain metering and interconnection standards. The standards being considered are the Time-based Metering & Communications (hereinafter called “Smart Metering”), Interconnection, and Net Metering standards listed in section 111(d) of the Public Utility Regulatory Act of 1978 (Pub. L. 95-617) as amended by the Energy Policy Act of 2005 (Pub. L. 109-58). The standards will be considered on the basis of their effect on conservation of energy, efficient use of facilities and resources, equity among electric consumers, and the objectives of the Tennessee Valley Authority Act. In addition, the Smart Metering standard will be considered in light of whether the benefits to the electric utility and its consumers are likely to exceed the costs of new metering and communications. Comments are requested from the public on whether TVA should adopt these standards or any variations on them.

DATES: Smart Metering Standard: Written comments on this standard must be received by December 1, 2006.

Interconnection and Net Metering Standards: Written comments on these standards must be received by March 1, 2007.

Workshops: concerning the standards to be considered will be held throughout the Valley during October 2006 at times and locations to be announced. The times and locations will be posted on the Web at http://www.tva.com/purpa and will also be announced through various media outlets. In addition, to be placed on a list to receive notice of workshop times and locations from TVA via mail, please write to the contact person designated below.

ADDRESSES: Written comments should be sent to: PURPA Standards Hearings, Attn: Carl Seigenthaler, Tennessee Valley Authority, One Century Place, 26 Century Boulevard, Nashville, TN 37214.

Comments may also be submitted via the Web, at http://www.tva.com/purpa, and, as described below, through various means provided at the workshops.

FOR FURTHER INFORMATION CONTACT: Carl Seigenthaler, Tennessee Valley Authority, One Century Place, 26 Century Boulevard, Nashville, TN 37214, (615) 232-6070.

SUPPLEMENTARY INFORMATION: Of the standards being considered, the Public Utility Regulatory Act of 1978 (Pub. L. 95-617) as amended by the Energy Policy Act of 2005 (Pub. L. 109-58) requires that TVA consider these standards. Accordingly, data, views, and comments are requested from the public on the Smart Metering, Interconnection, and Net Metering standards. Comments on variations in any of the standards, as well as views for or against their adoption are welcome. The three standards are being presented in order to initiate consideration and obtain the public's views on the need and desirability of such standards. Determinations on the appropriateness of the standards will be made by the TVA Board of Directors. The TVA Board will also determine, what, if any, standards included in this notice will be implemented by TVA for itself and the distributors of TVA power.

Standards: The standards about which a determination will be made are:

(1) Smart Metering.

A. Not later than 18 months after the enactment of these standards, each electric utility shall offer each of its customer classes, and provide individual customers upon customer request, a time-based rate schedule under which the rate charged by the electric utility varies during different time periods and reflects the variance, if any, in the utility's costs of generating and purchasing electricity at the wholesale level. The time-based rate schedule shall enable the electric consumer to manage energy use and cost through advanced metering and communications technology.

B. The types of time-based rate schedules that may be offered under the scheduled referred to in subparagraph (A) include, among others:

i. Time-of-use pricing whereby electricity prices are set for a specific time period on an advance or forward basis, typically not changing more often than twice a year, based on the utility's cost of generating and/or purchasing such electricity at the wholesale level for the benefit of the consumer. Prices paid for energy consumed during these periods shall be pre-established and known to consumers in advance of such consumption, allowing them to vary their demand and usage in response to such prices and manage their energy costs by shifting usage to a lower cost period or reducing their consumption overall;

ii. Critical peak pricing whereby time-of-use prices are in effect except for certain peak days, when prices may reflect the costs of generating and/or purchasing electricity at the wholesale level and when consumers may receive additional discounts for reducing peak period energy consumption;

iii. Real-time pricing whereby electricity prices are set for a specific time period on an advance or forward basis, reflecting the utility's cost of generating and/or purchasing electricity at the wholesale level, and may change as often as hourly; and

iv. Credits for consumers with large loads who enter into pre-established peak load reduction agreements that reduce a utility's planned capacity obligations.

C. Each electric utility subject to subparagraph (A) shall provide each customer requesting a time-based rate with a time-based meter capable of enabling the utility and customer to offer and receive such rate, respectively.

D. In a State that permits third-party marketers to sell electric energy to retail electric consumers, such consumers shall be entitled to receive the same time-based metering and communications device and service as a retail electric consumer of electric utility.

E. Notwithstanding subsections (b) and (c) of section 2622 of Title 16 of the United States Code, each State regulatory authority shall, not later than 18 months after the date of enactment of this paragraph conduct an investigation in accordance with section 2625(i) of said title and issue a decision whether it is appropriate to implement the standards set out in subparagraphs (A) and (C).

(2) Interconnection. Each utility shall make available, upon request, interconnection service to any electric consumer that the electric utility serves. For purposes of this paragraph, the term “interconnection service” means service to an electric consumer under which an on-site generating facility on the consumer's premises shall be connected to the local distribution facilities. Interconnection services shall be offered based upon the standards developed by the Institute of Electric and Electronics Engineers: IEEE Standard 1547 for Interconnecting Distributed Resources with Electric Power Systems, as they may be amended from time to time. In addition, agreements and procedures shall be established whereby the services are offered shall promote current best practices of interconnection for distributed generation, including but not limited to practices stipulated in model codes adopted by associations of state regulatory agencies. All such agreements and procedures shall be just and reasonable, and not unduly discriminatory or preferential.

(3) Net metering. Each utility shall make available upon request net metering service to any electric consumer that the electric utility serves. For purposes of this paragraph, the term “net metering service” means service to an electric consumer under which electric energy generated by that electric consumer from an eligible on-site generating facility and delivered to the local distribution facilities may be used to offset electric energy provided by the electric utility to the electric consumer during the applicable billing period.

Procedures: Written data, views, and comments on the standards are requested from the public. All material relating to the Smart Metering standard must be received by 5 p.m. EST on December 1, 2006. All material relating to the Interconnection and the Net Metering standard must be received by March 1, 2007. All materials received by TVA before these designated times will be considered by TVA. Written statements of TVA staff concerning the standards will be made part of the official record at least 30 days before the date the record closes, at which time they will be made available to the public on request.

In order to assist interested consumers in preparing written data, views, and comments for the record, TVA will sponsor a series of five (5) workshops which will provide various means by which interested parties can be informed about the standards set out in this notice. These workshops will be held throughout the Valley during September and October 2006 at times and locations to be announced via the various means discussed above.

A transcribing service will be onsite to record any oral comments one wishes to have placed in the record. In addition, workshop attendees will have the opportunity to submit their comments to the record by accessing computers available at the workshops for such purposes.

The official record will consist of all oral comments submitted and transcribed at the workshops, all material submitted electronically, and all written materials submitted within the time set forth above. A summary of the record will be prepared by TVA staff and will be transmitted to the TVA Board of Directors along with the complete record. The record will be used by the Board in making the determinations required by section 111(d) of the Public Utility Regulatory Policies Act of 1978 (Pub. L. 95-617) as amended by the Energy Policy Act of 2005 (Pub. L. 109-58) and in fulfilling its obligation under the Tennessee Valley Authority Act.

Individual copies of the record will be available to the public at cost of reproduction. Copies will also be kept on file for public inspection at the following locations: Tennessee Valley Authority, One Century Place, 26 Century Boulevard, Nashville, Tennessee, (615) 232-6070; Tennessee Valley Authority, 1101 Market Street, Chattanooga, Tennessee (423) 751-0011; and on the Web at http://www.tva.com/purpa.

Nicholas P. Goschy, Jr.,
Assistant General Counsel.

[FR Doc. E6-13557 Filed 8-16-06; 8:45 am]

BILLING CODE 8120-08-P